DEPARTMENT OF THE INTERIOR

Fish and Wildlife Service

Fiscal Year (FY) 2004 Landowner Incentive Program (Non Tribal Portion) for States, Territories, and the District of Columbia; Notice of Request for Proposals

AGENCY: Fish and Wildlife Service, Interior.

ACTION: Notice; Request for proposals.

SUMMARY: The Service is requesting proposals at this time under the Landowner Incentive Program pending a Department of the Interior and Related Agencies Appropriations Act 2004 allocation of funds for conservation grants to States, the District of Columbia, Puerto Rico, Guam, the United States Virgin Islands, the Northern Mariana Islands, and American Samoa (hereafter referred to collectively as States), and Tribes. The Service will address the Tribal component of LIP under a separate Federal Register notice.

DATES: The Service must receive your grant proposal no later than October 14, 2003. We will not accept facsimile grant proposals, but States are encouraged to submit their proposals in electronic format (Word, Word Perfect or PDF files). All parts of the grant proposal must be received prior to the deadline.

ADDRESSES: Grant proposals must be submitted to the Service's Division of Federal Assistance at the following locations:

Region 1. Hawaii, Idaho, Oregon, Washington, California, Nevada, American Samoa, Guam, and Commonwealth of the Northern Mariana Islands.

Regional Director, Division of Federal Assistance, U.S. Fish and Wildlife Service, 911 NE., 11th Avenue, Portland, Oregon 97232-4181, LIP Contact: Verlyn Ebert, (503) 231-6128; verlyn_ebert@r1.fws.gov.

Region 2. Arizona, New Mexico, Oklahoma, and Texas.

Regional Director, Division of Federal Assistance, U.S. Fish and Wildlife Service, P.O. Box 1306, 500 Gold Avenue SW., Room 4012, Albuquerque, New Mexico 87102, LIP Contact: Bob Anderson, (505) 248-7459; bob_anderson@fws.gov.

Region 3. Illinois, Indiana, Iowa, Michigan, Minnesota, Missouri, Ohio, and Wisconsin.

Regional Director, Division of Federal Assistance, U.S. Fish and Wildlife Service, Bishop Henry Whipple Federal Building, One Federal Drive, Fort Snelling, Minnesota 55111-4056, LIP Contact: Lucinda Corcoran, (612) 713-5135; lucinda_corcoran@fws.gov.

Region 4. Alabama, Arkansas, Florida, Georgia, Kentucky, Louisiana, Mississippi, North Carolina, South Carolina, Tennessee, Puerto Rico, and the U.S. Virgin Islands.

Regional Director, Division of Federal Assistance, U.S. Fish and Wildlife Service, 1875 Century Boulevard, Suite 200, Atlanta, Georgia 30345, LIP Contact: Mike Piccirilli, (404) 679-4154; mike_piccirilli@fws.gov.

Region 5. Connecticut, Delaware, District of Columbia, Maine, Maryland, Massachusetts, New Hampshire, New Jersey, New York, Pennsylvania, Rhode Island, Vermont, Virginia, and West Virginia.

Regional Director, Division of Federal Assistance, U.S. Fish and Wildlife Service, 300 Westgate Center Drive, Hadley, MA 01035-9589, LIP Contact: Colleen Sculley, (413) 253-8509; colleen_sculley@fws.gov.

Region 6. Colorado, Kansas, Montana, Nebraska, North Dakota, South Dakota, Utah, and Wyoming.

Regional Director, Division of Federal Assistance, U.S. Fish and Wildlife Service, P.O. Box 25486, Denver Federal Center, Denver, Colorado 80225-0486, LIP Contact: Jacque Richy, (303) 236-8155 ext. 236; jacque_richy@fws.gov.

Region 7. Alaska.

Regional Director, Division of Federal Assistance, U.S. Fish and Wildlife Service, 1011 East Tudor Road, Anchorage, Alaska 99503-6199, LIP Contact: Al Havens (907) 786-3435; al_havens@fws.gov.

FOR FURTHER INFORMATION CONTACT: Kim Galvan, Policy Analyst, U.S. Fish and Wildlife Service, Division of Federal Assistance, 4401 North Fairfax Drive—Mailstop MBSP 4020, Arlington, VA 22203-1610; telephone 703-358-2420; e-mail kim_galvan@fws.gov, or any of the individuals identified previously in the Regional Offices.

SUPPLEMENTARY INFORMATION: The Service will award grants on a competitive basis to State fish and wildlife agency programs that enhance, protect, or restore habitats that benefit federally listed, proposed, or candidate species, or other at-risk species on private lands. A copy of the FY 2004 LIP Guidelines can be obtained at http://federalaid.fws.gov/index.html or from the Regional Offices described in the ADDRESSES section above.

The Service will distribute any LIP funds made available in the FY 2004 budget in the same manner described in these Guidelines. The Service requests that the States number the pages in their proposals, and limit their proposals to no more than 50 pages, inclusive of attachments.

Dated: July 22, 2003.
Paul R. Schmidt,
Assistant Director, Migratory Birds and State Programs.

[FR Doc. 03-20717 Filed 8-14-03; 8:45 am]

BILLING CODE 4310-55-P